DEPARTMENT OF EDUCATION

Federal Family Education Loan Program—Cohort Default Rates

AGENCY: Federal Student Aid, Department of Education.

ACTION: Notice of implementation of electronic delivery of institution cohort default rate data for institutions located outside of the United States.

SUMMARY: The Secretary gives notice of the implementation of electronic cohort default rate (eCDR) delivery notification packages to institutions located outside of the United States (foreign institutions) that participate in the Federal Family Education Loan (FFEL) Program, authorized under Part B of Title IV of the Higher Education Act of 1965, as amended. This notice is effective for each foreign institution as of the date the U.S. Department of Education (the Department) advises the institution that the Department has completed the process of enabling the institution to enroll in the Department's Student Aid Internet Gateway (SAIG).

FOR FURTHER INFORMATION CONTACT: Frances Robinson, Default Prevention and Management, Federal Student Aid, U.S. Department of Education, Union Center Plaza, Room 084C2, 830 First Street, NE., Washington, DC 20002. Telephone: (202) 377-3192, FAX (202) 275-4537. If you use a telecommunications device for the deaf (TDD), you can call the Federal Relay Service (FRS), toll free, at 1-800-877-8339. Individuals with disabilities may obtain this document in an alternative format (e.g., Braille, large print, audiotape, or computer diskette) on request to the program contact person listed in this section.

SUPPLEMENTARY INFORMATION: Traditionally the Department has transmitted draft and official cohort default rate packages to foreign institutions participating in the FFEL Program by delivery of hardcopy documents or an encrypted password protected CD-ROM. The Department is replacing those processes with electronic transmission of draft and official cohort default rate notification packages via SAIG, as described below. Foreign institutions for which the Department has not yet established SAIG access will continue to receive their cohort default rate notification documents in hardcopy and will also receive an encrypted password protected CD-ROM. In these cases, the regulatory time periods for the institution to submit challenges, adjustments, and appeals will begin on the date of receipt by the institution of the encrypted password protected CD-ROM and the letter with the password for decrypting the CD-ROM.

The eCDR delivery process that the Department already uses for domestic institutions and that will be used for foreign institutions is as follows: For each electronic distribution of default rate notifications (draft and official) to institutions, the Department will announce on its Information for Financial Aid Professionals (IFAP) Web site (http://www.ifap.ed.gov) the date of the electronic transmission of cohort default rate information to the Destination Point Administrator (DPA) designated by each institution. Except as described in the following paragraph, the time periods for submitting challenges, adjustments, and appeals under 34 CFR part 668, subpart M, begins with the sixth business day after the date the default rate notification packages were transmitted to the SAIG destination points, as noted in the IFAP announcement.

If an institution believes that a technical problem caused by the Department resulted in the institution not being able to access its eCDR information, it must notify the Department no later than five business days after the transmission date announced on IFAP. By doing so, and if we agree that the Department caused the problem, we will extend the challenge, adjustment, and appeal timeframes to allow for a re-transmission of the information after the technical problem is resolved. Reports of technical problems must be made via e-mail and addressed to our Default Prevention and Management share post at: fsa.schools.default.management@ed.gov. Each institution is responsible for updating its SAIG enrollment whenever a change is needed to its DPA. Failure of an institution to enroll in or update SAIG for the eCDR process is not a valid, timely technical problem.

To implement the eCDR process, every foreign institution must, upon the Department's notification that its access to SAIG has been established, complete the enrollment package provided by the Department and return the package within the timeframe specified by the Department. Once the SAIG enrollment process is completed, the institution's DPA will receive the institution's next notification package under the eCDR process.

Electronic Access to This Document: You can view this document, as well as all other documents of this Department published in the Federal Register, in text or Adobe Portable Document Format (PDF) on the Internet at the following site: http://www.ed.gov/news/fedregister.

To use the PDF you must have the Adobe Acrobat Reader, which is available free at this site. If you have questions about using PDF, call the U.S. Government Printing Office (GPO); toll free, at 1-888-293-6498; or in the Washington, DC area at (202) 512-1530.

You may also view this document in PDF at the following site: http://www.ifap.ed.gov.

Note: The official version of this document is the document published in the Federal Register. Free Internet access to the official edition of the Federal Register and the Code of Federal Regulations is available through GPO Access at: http://www.gpoaccess.gov/nara/index.html.

Program Authority: 20 U.S.C. 1082, 1085, 1094, and 1099c.

Dated: August 8, 2007.
Lawrence A. Warder,
Acting Chief Operating Officer, Federal Student Aid.

[FR Doc. E7-15806 Filed 8-10-07; 8:45 am]

BILLING CODE 4000-01-P